NATIONAL AERONAUTICS AND SPACE ADMINISTRATION

[Notice 13-020]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: March 1, 2013.

FOR FURTHER INFORMATION CONTACT: Robin W. Edwards, Patent Counsel, Langley Research Center, Mail Stop 30, Hampton, VA 23681-2199; telephone (757) 864-3230; fax (757) 864-9190.

NASA Case No.: LAR-17211-1: Floating Ultrasonic Transducer Inspection System and Method for Nondestructive Evaluation;

NASA Case No.: LAR-17801-1: Coherent Doppler Lidar for Measuring Altitude, Ground Velocity, and Air Velocity of Aircraft and Spaceborne Vehicles;

NASA Case No.: LAR-18097-1: Shape Sensing Using a Multi-Core Optical Fiber Having an Arbitrary Initial Shape in the Presence of Extrinsic Forces;

NASA Case No.: LAR-18077-1: Method and Apparatus for Generating Flight-Optimizing Trajectories.

Sumara M. Thompson-King,
Deputy General Counsel.

[FR Doc. 2013-04805 Filed 2-28-13; 8:45 am]

BILLING CODE 7510-13-P